DEPARTMENT OF ENERGY

Federal Energy Regulatory Commission

[Project No. 14513-003]

Idaho Irrigation District, New Sweden Irrigation District; Notice of Waiver Period for Water Quality Certification Application

On October 11, 2022, Idaho Irrigation District and New Sweden Irrigation District submitted to the Federal Energy Regulatory Commission a copy of their application for a Clean Water Act section 401(a)(1) water quality certification filed with the Idaho Department of Environmental Quality (Idaho DEQ), in conjunction with the above captioned project. Pursuant to 40 CFR 121.6, we hereby notify the Idaho DEQ of the following:

Date of Receipt of the Certification Request: October 8, 2022.

Reasonable Period of Time to Act on the Certification Request: One year.

Date Waiver Occurs for Failure to Act: October 8, 2023.

If the Idaho DEQ fails or refuses to act on the water quality certification request by the above waiver date, then the agency's certifying authority is deemed waived pursuant to section 401(a)(1) of the Clean Water Act, 33 U.S.C. 1341(a)(1).

Dated: October 18, 2022.
Debbie-Anne A. Reese,
Deputy Secretary.

[FR Doc. 2022-23040 Filed 10-21-22; 8:45 am]

BILLING CODE 6717-01-P